COMMITTEE FOR THE IMPLEMENTATION OF TEXTILE AGREEMENTS

Requesting a List of Importers Who Wish To Import Leno Mesh Fabric in Category 220, Produced or Manufactured in the People's Republic of China

AGENCY: Committee for the Implementation of Textile Agreements (CITA).

ACTION: Issuing a directive requesting a list of importers who wish to import leno mesh fabric in Category 220.

FOR FURTHER INFORMATION CONTACT: Becky Geiger, International Trade Specialist, Office of Textiles and Apparel, U.S. Department of Commerce, (202) 482-4212.

SUPPLEMENTARY INFORMATION:

Authority: Section 204 of the Agricultural Act of 1956, as amended (7 U.S.C. 1854); Executive Order 11651 of March 3, 1972, as amended.

Effective January 1, 2002, the United States ceased to apply quotas to bags of leno mesh fabric, classified in Harmonized Tariff Schedule of the United States (HTSUS) headings 6305, integrating this product into the General Agreement on Tariffs and Trade 1994. However, HTSUS heading 5803.90.3000, which includes the leno mesh fabric used to make such bags, continues to be subject to quota. This heading is in category 220 and is subject to a group limit when imported from China. U.S. manufacturers of bags of leno mesh fabric have been unable to obtain this fabric in sufficient quantities from domestic sources, and imports are currently unavailable due to the unavailability of quota. CITA has agreed that it is appropriate to increase the group limit to allow additional imports of leno mesh fabric. In order to issue visas for this fabric, the Government of China has requested the United States to identify importers that wish to import leno mesh fabric from China.

Importers who wish to import leno mesh fabric in Category 220 from China, and who therefore wish to be allocated a visa by the Government of China for that fabric, need to supply the following information to CITA by July 15, 2004.

Importer of leno mesh fabric, address, telephone number, fax number, E-mail address.

Leno mesh fabric bag manufacturer, address, telephone number, fax number. E-mail address.

Customs Broker for importation of leno mesh fabric, address, telephone number, fax number, e-mail address.

That information will then be supplied to the Chinese Government, which has requested this information for administrative purposes. Please send this information to the Chairman, Committee for the Implementation of Textile Agreements, room 3100, U.S. Department of Commerce, 14th St. and Constitution Avenue, NW., Washington, DC 20230.

James C. Leonard III,
Chairman, Committee for the Implementation of Textile Agreements.

[FR Doc. 04-15195 Filed 6-30-04; 1:38 pm]

BILLING CODE 3510-DR-P